DEPARTMENT OF LABOR

Employment and Training Administration

[TA-W-50,720]

Siemens Business Systems, Rumford, ME; Notice of Termination of Investigation

Pursuant to section 221 of the Trade Act of 1974, an investigation was initiated on December 19, 2002 in response to a worker petition which was filed on behalf of workers at Siemens Business Systems, Rumford, Maine.

An active certification covering the petitioning group of workers is already in effect (TA-W-41,327, as amended). Consequently, further investigation in this case would serve no purpose, and the investigation has been terminated.

Signed in Washington, DC, this 11th day of February 2003.
Linda G. Poole,
Certifying Officer, Division of Trade Adjustment Assistance.

[FR Doc. 03-6568 Filed 3-18-03; 8:45 am]

BILLING CODE 4510-30-P